DEPARTMENT OF STATE

[Public Notice 10950]

30 Day Notice of Proposed Information Collection: Shrimp Exporter's/Importer's Declaration

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 8, 2020.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Joseph Fette, Section 609 Program Manager, Office of Marine Conservation, Bureau of Oceans and International Environmental and Scientific Affairs, Department of State, Washington, DC 20520-2758, who may be reached on 202-647-3263 or at DS2031@state.gov.

SUPPLEMENTARY INFORMATION: • Title of Information Collection: Shrimp Exporter's/Importer's Declaration.

• OMB Control Number: 1405-0095.

• Type of Request: Extension of a Currently Approved Collection.

• Originating Office: Bureau of Oceans and International Environmental and Scientific Affairs, Office of Marine Conservation (OES/OMC).

• Form Number: DS-2031.

• Respondents: Business or other for-profit organizations.

• Estimated Number of Respondents: 3,000.

• Estimated Number of Responses: 10,000.

• Average Time per Response: 10 minutes.

• Total Estimated Burden Time: 1,666 hours.

• Frequency: On Occasion.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-2031 form is necessary to document imports of shrimp and products from shrimp pursuant to the State Department's implementation of Section 609 of Public Law 101-162, which prohibits the entry into the United States of shrimp harvested in ways which are harmful to sea turtles. Respondents are exporters of shrimp and products from shrimp and government officials in countries that export shrimp and products from shrimp to the United States. The importer is required to present the DS-2031 form at the port of entry into the United States, to retain the DS-2031 form for a period of three years subsequent to entry, and during that time to make the DS-2031 form available to U.S. Customs and Border Protection or the Department of State upon request.

Methodology

The DS-2031 form is completed by the exporter, the importer, and under certain conditions a government official of the harvesting country. The DS-2031 form accompanies shipments of shrimp and shrimp product to the United States and is to be made available to U.S. Customs and Border Protection at the time of entry and for three years after entry.

David F. Hogan,
Acting Deputy Assistant Secretary.

[FR Doc. 2019-26454 Filed 12-6-19; 8:45 am]

BILLING CODE 4710-09-P